DEPARTMENT OF COMMERCE

National Oceanic and Atmospheric Administration

50 CFR Part 660

[Docket No. 250407-0061]

RIN 0648-BN08

Magnuson-Stevens Act Provisions; Fisheries Off West Coast States; Pacific Coast Groundfish Fishery; Pacific Coast Groundfish Fishery Management Plan; Amendment 33; 2025-26 Biennial Specifications and Management Measures; Correcting Amendment

AGENCY: National Marine Fisheries Service (NMFS), National Oceanic and Atmospheric Administration (NOAA), Commerce.

ACTION: Final rule; correcting amendment.

SUMMARY: NMFS is correcting the 2025-2026 harvest specifications and management measures for groundfish caught in the U.S. exclusive economic zone seaward of Washington, Oregon, and California published on December 16, 2024. These corrections are necessary to accurately implement the 2025-2026 specifications. This correcting amendment revises regulations to fully implement the recombination of shortspine thornyheads north and south of 34°27′ N lat., by clarifying the coastwide quota share (QS) and quota pound (QP) accumulation limits are the same as the area-specific limits but are now managed coastwide. This correction also revises the limited entry trip limits for shortspine thornyheads and sablefish, which were mis-specified in table 2b (South). Finally, this correction also fixes an amendatory instruction intended to correct instances of “Nontrawl” to “Non-trawl”.

DATES: This rule is effective April 11, 2025.

ADDRESSES: This rule is accessible at the Office of the Federal Register website at https://www.federalregister.gov. Background information and documents are available at the NMFS West Coast Region website at https://www.fisheries.noaa.gov/action/amendment-33-pacific-coast-groundfish-fishery-management-plan-2025-2026-groundfish-harvest and the Pacific Fishery Management Council's website at http://www.pcouncil.org/.

FOR FURTHER INFORMATION CONTACT: Keeley Kent, Supervisory Fishery Management Specialist, at 206-526-4655 or keeley.kent@noaa.gov.

SUPPLEMENTARY INFORMATION: The Pacific Coast Groundfish Fishery Management Plan (PCGFMP) and its implementing regulations at title 50 in the Code of Federal Regulations (CFR), part 660, subparts C through G, regulate fishing for over 90 species of groundfish seaward of Washington, Oregon, and California. Based on recommendations from the Pacific Fishery Management Council (Council), NMFS develops groundfish harvest specifications and management measures for 2-year periods (i.e., a biennium). NMFS published the final rule to implement harvest specifications and management measures for the 2025-2026 biennium for most species managed under the PCGFMP on December 16, 2024 (89 FR 101514) (final rule). That final rule was effective January 1, 2025. After publication of the final rule, NMFS noted the need for corrections to accurately implement the specifications as evaluated by the Council and approved by NMFS.

Corrections

The final rule inadvertently omitted changes to the quota share (QS) and quota pound (QP) accumulation limits that result from the combination of the shortspine thornyhead annual catch limits and Shorebased Individual Fishing Quota privileges that was implemented via the final rule. Prior to the recombination, the QS accumulation limit for shortspine thornyheads north of 34°27′ N lat. was 6 percent and for shortspine thornyheads south of 34°27′ N lat. was 6 percent. This correction clarifies in 50 CFR 660.140(d)(4)(i)(C) that the QS accumulation limit is now 6 percent for coastwide shortspine thornyheads. Similarly, prior to the recombination, the QP accumulation limit for shortspine thornyheads north of 34°27′ N lat. was 9 percent and for shortspine thornyheads south of 34°27′ N lat. was 9 percent. This correction clarifies in 50 CFR 660.140(e)(4)(i) that the QP accumulation limit is now 9 percent for coastwide shortspine thornyheads.

Consistent with revisions to the regulations in 50 CFR part 660 accomplished via the final rule, this correction also fixes six instances of “Nontrawl” to read “Non-trawl”. This correction also fixes an incorrect citation in 50 CFR 660.13(d)(4)(iv), by replacing it with 50 CFR 660.11, the correct citation for the definition of the directed open access fishery.

This correcting amendment also fixes three errors in table 2b (South) to part 660, subpart E. The final rule incorrectly left out the cumulative trip limit for shortspine thornyhead south of 34°27′ N lat. for limited entry fixed gear (LEFG) participants. This correcting amendment revises table 2b (South) to part 660, subpart E, to set the trip limit for shortspine thornyhead south of 34°27′ N lat. at 4,000 lb (1,814 kg) per 2 months. Additionally, this correcting amendment revises the incorrectly set LEFG limit for sablefish south of 36° N lat. The limit will now read “2,500 lb (1,134 kg) per week” rather than the current incorrect “2,500 lb (1,134 kg) per 2 months”. Finally, this correcting amendment revises the area specification for the longspine thornyhead LEFG limit so that it is set for the entire area south of 40°10′ N lat. rather than just south of 34°27′ N lat.

This correcting amendment also clarifies the formatting of the “Other flatfish” trip limits for the open access sector in table 3b (South) to part 660, subpart F.

Classification

NMFS is issuing this rule pursuant to 304(b) of the Magnuson-Stevens Fishery Conservation and Management Act (MSA). The NMFS Assistant Administrator for Fisheries (AA) has determined that this final rule is consistent with the MSA, the PCGFMP, and other applicable law.

Pursuant to 5 U.S.C. 553(b)(B), the AA finds there is good cause to waive prior notice and an opportunity for public comment on this action, as notice and comment would be unnecessary and contrary to public interest in clear and accurate regulations. This action corrects inadvertent errors and makes necessary clarifications to the final rule. Expeditious correction of the errors and clarification is necessary to prevent confusion among participants in the fishery, which has already begun. In addition, notice and comment is unnecessary because this notice makes only minor changes to correct inadvertent errors and make minor clarifications related to the final rule. That rule was subject to notice and comment rulemaking, as well as opportunity for public comment through the Council development process, including at meetings in June 2023, September 2023, November 2023, March 2024, April 2024, and June 2024. These corrections will not affect the results of analyses conducted to support management decisions in the Pacific Coast groundfish fishery. These corrections are consistent with the public process regarding the regulations and to accurately implement the 2025-2026 specifications as evaluated by the Council and approved by NMFS. Accordingly, the public expects the regulations to be written as in the correction. No change in operating practices in the fishery is required.

Similarly, the AA has determined good cause exists to waive the 30-day delay in effectiveness pursuant to 5 U.S.C. 553(d). The changes in this action should be effective immediately to prevent further confusion among participants in the fishery. This final rule makes only minor corrections to the final rule which was effective January 1, 2025. Delaying effectiveness of these corrections would result in conflicts in the regulations and confusion among fishery participants.

Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This final rule is not significant under Executive Order 12866.

This final rule contains no information collection requirements under the Paperwork Reduction Act of 1995.

List of Subjects in 50 CFR Part 660

Fisheries, Fishing, Indian fisheries.

Dated: April 8, 2025.
Samuel D. Rauch III,
Deputy Assistant Administrator for Regulatory Programs, National Marine Fisheries Service.

For the reasons set out in the preamble, 50 CFR part 660 is corrected by making the following correcting amendments:

PART 660—FISHERIES OFF WEST COAST STATES

1. The authority citation for part 660 continues to read as follows:

Authority: 16 U.S.C. 1801 et seq., 16 U.S.C. 773 et seq., and 16 U.S.C. 7001 et seq.

2. In § 660.11:

a. Revise paragraph (8) in the definition of “Fishing gear”; and

b. In the introductory text of the definition of “Nontrawl fishery”:

i. Remove “Nontrawl fishery” and add “Non-trawl fishery” in its place; and

ii. Add a colon at the end of the text.

The revision reads as follows:

§ 660.11 General definitions.

* * * * *

Fishing gear * * *

(8) Non-trawl gear means all legal commercial groundfish gear other than trawl gear.

* * * * *

3. In § 660.13, revise the introductory text of paragraph (d)(4)(iv) to read as follows:

§ 660.13 Recordkeeping and reporting.

* * * * *

(d) * * *

(4) * * *

(iv) Declaration reports will include: The vessel name and/or identification number, gear type, and monitoring type where applicable, (as defined in paragraph (d)(4)(iv)(A) of this section). Upon receipt of a declaration report, NMFS will provide a confirmation code or receipt to confirm that a valid declaration report was received for the vessel. Retention of the confirmation code or receipt to verify that a valid declaration report was filed and the declaration requirement was met is the responsibility of the vessel owner or operator. Vessels using non-trawl gear may declare more than one gear type, with the exception of vessels participating in the Shorebased IFQ Program (i.e., gear switching) and those vessels declaring to fish inside the Non-Trawl RCA with non-bottom contact stationary vertical jig gear or groundfish troll gear (i.e., if one of these declarations is used, no other declaration may be made on that fishing trip). For the purpose of the directed open access permit defined at § 660.11, declaration codes for the directed open access fishery include codes 33 through 37. Vessels using trawl gear may only declare one of the trawl gear types listed in paragraph (d)(4)(iv)(A) on any trip and may not declare non-trawl gear on the same trip in which trawl gear is declared.

* * * * *

4. In § 660.55, revise the heading of paragraph (c)(1)(ii) to read as follows:

§ 660.55 Allocations.

* * * * *

(c) * * *

(1) * * *

(ii) Non-trawl fishery allocation. * * *

* * * * *

5. In § 660.140, amend the tables in paragraphs (d)(4)(i)(C) and (e)(4)(i) by revising the entries for “Shortspine thornyhead” to read as follows:

§ 660.140 Shorebased IFQ Program.

* * * * *

(d) * * *

(4) * * *

(i) * * *

(C) * * *

Accumulation Limits

Species category | QS and IBQ control limit (in percent)
* * * * *
Shortspine thornyhead | 6
* * * * *

* * * * *

(e) * * *

(4) * * *

(i) * * *

Species category | Annual QP vessel limit (in percent)
* * * * *
Shortspine thornyhead | 9
* * * * *

* * * * *

6. In § 660.230, revise the first sentence of paragraph (b)(6) and the heading of paragraph (d)(14) to read as follows:

§ 660.230 Fixed gear fishery—management measures.

* * * * *

(b) * * *

(6) Gear for use in the Non-trawl RCA. * * *

* * * * *

(d) * * *

(14) Non-trawl Rockfish Conservation Area (RCA). * * *

* * * * *

7. In table 2b (South) to part 660, subpart E:

a. Remove the entry for “Longspine thornyhead (south of 34°27′ N lat.)” and add the entry “Longspine thornyhead” in its place;

b. Revise the entry for “Sablefish (south of 36° N lat.)”; and

c. Add an entry for “Shortspine thornyhead (south of 34°27′ N lat.)” in alphabetical order.

The additions and revision read as follows:

Table 2b (South) to Part 660, Subpart E—Trip Limits for Limited Entry Fixed Gear South of 40°10′ N Lat.
Species | Trip limit
* * * * * * *
Longspine thornyhead | 10,000 lb/2 months.
* * * * * * *
Sablefish (south of 36° N lat.) | 2,500 lb/week not to exceed 6,000 lb/2 month.
* * * * * * *
Shortspine thornyhead (south of 34°27′ N lat.) | 4,000 lb/2 months.
* * * * * * *

* * * * *

8. In § 660.330, revise the heading of paragraph (d)(15) to read as follows:

§ 660.330 Open access fishery—management measures.

* * * * *

(d) * * *

(15) Non-trawl rockfish conservation area for the open access fisheries. * * *

* * * * *

9. In table 3b (South) to part 660, subpart F:

a. Remove the entry for “Other flatfish complex (defined at § 660.11)”; and

b. Add the entries “Other flatfish complex (defined at § 660.11) (40°10′ N lat.-37°07′ N lat.)” and “Other flatfish complex (defined at § 660.11) (South of 37°07′ N lat.)” in alphanumerical order.

The additions read as follows:

Table 3b (South) to Part 660, Subpart F—Trip Limits for Open Access South of 40°10′ N Lat.
Species | Trip limit
* * * * * * *
Other flatfish complex (defined at § 660.11) (40°10′ N lat.-37°07′ N lat.) | 10,000 lb/2 months seaward of the Non-Trawl RCA; CLOSED inside of the Non-Trawl RCA.
Other flatfish complex (defined at § 660.11) (South of 37°07′ N lat.) | 10,000 lb/2 months.
* * * * * * *

* * * * *

[FR Doc. 2025-06191 Filed 4-10-25; 8:45 am]

BILLING CODE 3510-22-P